DEPARTMENT OF HOMELAND SECURITY

Transportation Security Administration

49 CFR Parts 1515, 1540, 1570, and 1572

[Docket No. TSA-2006-24191; TSA Amendment Nos. 1515—(New), 1540-8, 1570-2, and 1572-7]

RIN 1652-AA41

Transportation Worker Identification Credential Implementation in the Maritime Sector; Hazardous Materials Endorsement for a Commercial Driver's License; Correction

AGENCY: Transportation Security Administration (TSA).

ACTION: Final rule; correction.

SUMMARY: This document contains corrections to the final rule published in the Federal Register on January 25, 2007 (72 FR 3492). That rule requires credentialed merchant mariners and workers with unescorted access to secure areas of vessels and facilities to undergo a security threat assessment and receive a biometric credential, known as a Transportation Worker Identification Credential (TWIC). This rule correction redesignates paragraphs in parts 1515 and 1572. In addition, this rule correction substitutes a word in parts 1540 and 1570 for consistency, deletes a word for clarity in part 1570 and inserts a word in part 1572 to clarify the type of fee. These revisions are necessary to correct typographical errors and to use terms consistently throughout the rule.

DATES: Effective March 26, 2007.

FOR FURTHER INFORMATION CONTACT: Christine Beyer, TSA-2, Transportation Security Administration, 601 South 12th Street, Arlington, VA 22202-4220; telephone (571) 227-2657; facsimile (571) 227-1380; e-mail Christine.Beyer@dhs.gov.

SUPPLEMENTARY INFORMATION:

Background

On January 25, 2007, the Department of Homeland Security, through TSA and the U.S. Coast Guard (Coast Guard) published a final rule in the Federal Register (72 FR 3492) making technical changes to various provisions of chapter XII, title 49 (Transportation) of the Code of Federal Regulations (CFR), and implementing the TWIC program in the maritime sector of the nation's transportation system. The final rule enhances port security by requiring security threat assessments of individuals who have unescorted access to secure areas and improving access control measures to prevent unauthorized individuals from gaining unescorted access to secure areas. The final rule amends existing appeal and waiver procedures, and expands the provisions to apply to TWIC applicants and air cargo personnel.

This rule correction document redesignates paragraphs codified in parts 1515.5 and 1572.103, substitutes the word “applicant” for “individual” in parts 1540.201, 1540.203, 1540.205, and 1570.3, deletes a word for clarity in part 1570.3, and inserts the word “fee” in part 1572.401 for clarity.

Correction

In rule FR Doc. 07-19, published on January 25, 2007 (72 FR 3492), make the following corrections:

§ 1515.5 [Corrected]

1. On page 3589, in the third column, redesignate paragraphs (h) and (i) as paragraphs (g) and (h) under § 1515.5 Appeal of Initial Determination of Threat Assessment based on criminal conviction, immigration status, or mental capacity.

§ 1540.201 [Corrected]

2. On page 3592 in the second column, paragraph (a)(4) under § 1540.201 Applicability and terms used in this subpart, is corrected to read as follows:

§ 1540.201 Applicability and terms used in this subpart.

* * * * *

(a) * * *

(4) Each applicant applying for unescorted access to cargo under one of the programs described in (a)(1) through (a)(3) of this section.

* * * * *

§ 1540.203 [Corrected]

3. On page 3592 in the third column, paragraph (b)(2)(ii) under § 1540.203 Operator responsibilities, is corrected to read as follows:

§ 1540.203 Operator responsibilities.

* * * * *

(b) * * *

(2) * * *

(ii) Current mailing address, including residential address if it differs from the current mailing address, and all other residential addresses for the previous five years, and e-mail address, if the applicant has an e-mail address.

* * * * *

§ 1540.205 [Corrected]

4. On page 3593 in the first and second columns, paragraph (d), as correctly designated at 72 FR 5633, February 7, 2007, under § 1540.205 Procedures for security threat assessment, is corrected to read as follows:

§ 1540.205 Procedures for security threat assessment.

* * * * *

(d) Withdrawal by TSA. TSA serves a Withdrawal of the Initial Determination of Threat Assessment on the applicant and a Determination of No Security Threat on the operator, if the appeal results in a determination that the applicant does not pose a security threat.

§ 1570.3 [Corrected]

5. On page 3594 in the first column under § 1570.3 Terms used in this subchapter, the definition of “Initial Determination of Threat Assessment” is corrected to read as follows:

§ 1570.3 Terms used in this subchapter.

* * * * *

Initial Determination of Threat Assessment means an initial administrative determination by TSA that an applicant poses a security threat warranting denial of an HME or a TWIC.

* * * * *

§ 1572.103 [Corrected]

6. On page 3600 through 3601, in the third and first columns respectively, redesignate the second paragraph (b)(2)(xi), paragraph (b)(2)(xii), paragraph (b)(2)(xii), and paragraph (b)(2)(xiv), as paragraphs (b)(2)(xii) through (xv) respectively, under § 1572.103 Disqualifying criminal offenses.

§ 1572.401 [Corrected]

7. On page 3603 in the first column, paragraph (a) under § 1572.401 Fee collection options, is corrected to read as follows:

§ 1572.401 Fee collection options.

(a) State collection and transmission. If a State collects fingerprints and applicant information under 49 CFR part 1572, the State must collect and transmit to TSA the Threat Assessment Fee, in accordance with the requirements of 49 CFR 1572.403. The State also must collect and remit the FBI fee, in accordance with established procedures.

* * * * *

Issued in Arlington, Virginia, on March 21, 2007.
Mardi Ruth Thompson,
Deputy Chief Counsel for Regulations, Transportation Security Administration.

[FR Doc. E7-5487 Filed 3-23-07; 8:45 am]

BILLING CODE 9110-05-P